DEPARTMENT OF STATE

[Public Notice: 11990]

30-Day Notice of Proposed Information Collection: Application To Determine Returning Resident Status

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to March 15, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Andrea Lage, Acting Senior Regulatory Coordinator, who may be reached on (202) 485-7586 or at PRA_BurdenComments@state.gov.

SUPPLEMENTARY INFORMATION:

• Title of Information Collection: Application to Determine Returning Resident Status.

• OMB Control Number: 1405-0091.

• Type of Request: Extension of a currently approved collection.

• Originating Office: CA/VO.

• Form Number: DS-117.

• Respondents: Lawful permanent residents or conditional residents who have remained outside the United States for more than one year, or who cannot return to the United States within the validity period of their Form I-551, Permanent Resident Card, or re-entry permit.

• Estimated Number of Respondents: 4,400.

• Estimated Number of Responses: 4,400.

• Average Time per Response: 30 minutes.

• Total Estimated Burden Time: 2,200 hours.

• Frequency: Once.

• Obligation to Respond: Required to obtain benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Under Section 101(a)(27)(A) of the Immigration and Nationality Act (INA), 8 U.S.C. 1101(a)(27)(A), and INA section 203(b)(4), 8 U.S.C. 1153(b)(4), a noncitizen may be issued a special immigrant visa as a returning resident if they are an immigrant, previously lawfully admitted for permanent residence, returning from a temporary visit abroad for more than one year due to circumstances outside of their control, or who cannot return to the United States within the validity period of their Form I-551, Permanent Resident Card, or Reentry Permit or re-entry permit. The DS-0117 is used to collect information necessary to determine a returning resident's eligibility.

Methodology

Individuals will submit the DS-117 electronically via email or print the form and submit in person to the U.S. embassy or consulate abroad for review.

Julie M. Stufft,
Deputy Assistant Secretary, Bureau of Consular Affairs, Department of State.

[FR Doc. 2023-03000 Filed 2-10-23; 8:45 am]

BILLING CODE 4710-06-P